NUCLEAR REGULATORY COMMISSION

10 CFR Part 72

[NRC-2023-0131]

RIN 3150-AL03

List of Approved Spent Fuel Storage Casks: TN Americas LLC Standardized NUHOMS® Horizontal Modular Storage System for Irradiated Nuclear Fuel, Certificate of Compliance No. 1004, Renewed Amendment No. 18

AGENCY: Nuclear Regulatory Commission.

ACTION: Direct final rule; confirmation of effective date.

SUMMARY: The U.S. Nuclear Regulatory Commission (NRC) is confirming the effective date of December 18, 2023, for the direct final rule that was published in the Federal Register on October 3, 2023. This direct final rule amended the TN Americas LLC, Standardized NUHOMS® Horizontal Modular Storage System for Irradiated Nuclear Fuel listing within the “List of approved spent fuel storage casks” to include Renewed Amendment No. 18 to Certificate of Compliance No. 1004.

DATES: The effective date of December 18, 2023, for the direct final rule published October 3, 2023, (88 FR 67929), is confirmed.

ADDRESSES: Please refer to Docket ID NRC-2023-0131 when contacting the NRC about the availability of information for this action. You may obtain publicly available information related to this action by any of the following methods:

• Federal Rulemaking Website: Go to https://www.regulations.gov and search for Docket ID NRC-2023-0131. Address questions about NRC dockets to Dawn Forder; telephone: 301-415-3407; email: Dawn.Forder@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The Renewed Amendment No. 18 of Certificate of Compliance No. 1004 and associated changes to the Technical Specifications, and safety evaluation report can also be viewed in ADAMS under Package Accession No. ML23293A298.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Rodnika Murphy, Office of Nuclear Material Safety and Safeguards, telephone: 301-415-7153, email: Rodnika.Murphy@nrc.gov; and Christian Jacobs, Office of Nuclear Material Safety and Safeguards, telephone: 301-415-6825, email: Christian.Jacobs@nrc.gov. Both are staff of the U.S. Nuclear Regulatory Commission, Washington, DC 20555-0001.

SUPPLEMENTARY INFORMATION: On October 3, 2023 (88 FR 67929), the NRC published a direct final rule amending its regulations in part 72 of title 10 of the Code of Federal Regulations to the TN Americas LLC, Standardized NUHOMS® Horizontal Modular Storage System for Irradiated Nuclear Fuel listing within the “List of approved spent fuel storage casks” to include Renewed Amendment No. 18 to Certificate of Compliance (CoC) No. 1004. Renewed Amendment No. 18 amends the certificate of compliance to:

• provide a 24PTH improved basket design (Type 3) using staggered plates similar to EOS-37PTH to simplify construction, reduce weight, and improve fabricability;

• delete Appendix A inspections, tests, and evaluations requirement for initial horizontal storage module delta temperature measurement with a loaded dry shielded canister (DSC);

• clarify Appendix B technical specification (TS) Section 4.3.2 language related to transfer casks with liquid neutron shields regarding the OS197L transfer cask (TC), which is significantly different than other TC models;

• update Appendix C American Society of Mechanical Engineers (ASME) Code Alternatives Table C-12 to add code alternative NG-4231.1;

• clarify in Appendix B TS LCO 3.1.3 that there is no transfer time limit associated with the 24PTH-S-LC DSC, consistent with existing updated final safety analysis report analysis;

• incorporate administrative controls during short duration independent spent fuel storage installation handling operations that are unanalyzed for tornado hazards in accordance with the guidance contained in NRC EGM 22-001, “Enforcement Discretion for Noncompliance of Tornado Hazards Protection Requirements at Independent Spent Fuel Storage Installations”; and

• change the horizontal storage module concrete, to allow use of different cement, which is a blended Portland cement meeting the requirements of the American Society for Testing and Materials C595 standard.

This amendment also includes an editorial correction to the certificate of compliance name/address information by adding a missing space between 7160 and Riverwood Drive.

In the direct final rule, the NRC stated that if no significant adverse comments were received, the direct final rule would become effective on December 18, 2023. The NRC did not receive any comments on the direct final rule. Therefore, this direct final rule will become effective as scheduled.

Dated: November 15, 2023.
For the Nuclear Regulatory Commission.
Cindy K. Bladey,
Chief, Regulatory Analysis and Rulemaking Support Branch, Division of Rulemaking, Environmental, and Financial Support Office of Nuclear Material Safety and Safeguards.

[FR Doc. 2023-25641 Filed 11-17-23; 8:45 am]

BILLING CODE 7590-01-P